DEPARTMENT OF THE INTERIOR

National Park Service

[NPS-WASO-NRNHL-DTS#-34891; PPWOCRADI0, PCU00RP14.R50000]

National Register of Historic Places; Notification of Pending Nominations and Related Actions

AGENCY: National Park Service, Interior.

ACTION: Notice.

SUMMARY: The National Park Service is soliciting electronic comments on the significance of properties nominated before November 12, 2022, for listing or related actions in the National Register of Historic Places.

DATES: Comments should be submitted electronically by December 8, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 12, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

GEORGIA

Fulton County

Methodist Center, 159 Ralph McGill Blvd. NE, Atlanta, SG100008493

ILLINOIS

Cook County

Stone Temple Baptist Church, 3620-3624 West Douglas Blvd., Chicago, SG100008484

Muddy Waters House, 4339 South Lake Park Ave., Chicago, SG100008485

Schlitz Brewery-Tied House, 9401 South Ewing Ave., Chicago, SG100008489

Jackson County

Murphysboro Downtown Historic District, Roughly bounded by 9th, 15th, Locust, and Chestnut Sts., Murphysboro, SG100008487

Kane County

Aurora Broadway Historic District

Roughly bounded by the Fox R., East New York St., the Burlington Northern & Santa Fe Railroad tracks, and East Benton St., Aurora, SG100008483

Will County

Perry, Joseph Ferris, House, 365 West Exchange St., Crete, SG100008486

Winnebago County

Emerson-Keith House, 420 North Main St., Rockford, SG100008488

LOUISIANA

Jackson Parish

Hunt, John S., House, 1231 South 1st St., Hodge, SG100008490

MAINE

Hancock County

Far From the Wolf, 120 West Oval, Winter Harbor, SG100008476

York County

Biddeford-Saco Mills Historic District (Boundary Increase), 1 and 30 Gooch St., Biddeford, BC100008478

OHIO

Lucas County

Meister Apartments, The (Apartment Buildings in Ohio Urban Centers, 1870-1970 MPS), 1432-1434 (1430-1436) North Huron St., Toledo, MP100008480

VERMONT

Chittenden County

Chapin, Lewis, Homestead, (Agricultural Resources of Vermont MPS), 22 Barber Farm Road, Jericho, MP100008479

VIRGINIA

Fauquier County

Silver Hill Baptist Church and School, (African American Resources in Fauquier County, Virginia MPS), 13323 Silver Hill Rd., Bealeton, MP100008482

WASHINGTON

Franklin County

Kurtzman Park, (The Black American Experience in Pasco, Washington MPS), 331 S Wehe Ave., Pasco, MP100008491

WISCONSIN

St. Croix County

New Richmond Commercial Historic District, Bounded by rear properties facing South Knowles Ave., Willow R., and 3rd St., New Richmond, SG100008475

Additional documentation has been received for the following resource:

MAINE

York County

Biddeford-Saco Mills Historic District (Additional Documentation), 1 and 30 Gooch St., Biddeford, AD08001258

Nominations Submitted by Federal Preservation Officers

The State Historic Preservation Officer reviewed the following nominations and responded to the Federal Preservation Officer within 45 days of receipt of the nominations and supports listing the properties in the National Register of Historic Places.

CALIFORNIA

Contra Costa County

U.S. Naval Magazine Port Chicago Historic District, Military Ocean Concord Terminal, 5110 Port Chicago Hwy., Concord, SG100008473

NEW MEXICO

Santa Fe County

U.S. Post Office and Federal Building, 120 South Federal Pl., Santa Fe, SG100008474

(Authority: Section 60.13 of 36 CFR part 60)

Dated: November 15, 2022.
Sherry A. Frear,
Chief, National Register of Historic Places/National Historic Landmarks Program.

[FR Doc. 2022-25468 Filed 11-22-22; 8:45 am]

BILLING CODE 4312-52-P